DEPARTMENT OF THE INTERIOR

Bureau of Land Management

ID-933-1430-FQ; DK-G08-0002; IDI-15627]

Public Land Order No. 7728; Revocation of the Withdrawal Created by the Executive Order Dated April 4, 1917, as Modified; Idaho

AGENCY: Bureau of Land Management, Interior.

ACTION: Public Land Order.

SUMMARY: This order revokes in its entirety a withdrawal created by an Executive Order, as modified, as to 184.10 acres of public lands withdrawn from surface entry for the Bureau of Land Management's Power Site Reserve No. 595. This order also opens those lands not previously conveyed out of Federal ownership to surface entry, subject to other segregations of record.

DATES: Effective Date: February 20, 2009.

FOR FURTHER INFORMATION CONTACT: Jackie Simmons, BLM Idaho State Office, 1387 S. Vinnell Way, Boise, Idaho 83709, 208-373-3867.

SUPPLEMENTARY INFORMATION: The lands were withdrawn from settlement, sale location and entry and reserved for the purposes of electrical transmission line development. The transmission lines were never constructed and the powersite reservation is no longer needed. This action will permit the conveyance of public lands for community growth purposes. The State of Idaho has waived its rights of selection in accordance with the provisions of Section 24 of the Federal Power Act of June 10, 1920 (41 Stat. 1015, 16 U.S.C. 818 (2000)), as amended. The Department of the Interior, Office of the Secretary, Assistant Secretary—Fish and Wildlife and Parks has the authority to sign this document pursuant to 43 U.S.C. 1714(a).

Order

By virtue of the authority vested in the Secretary of the Interior by Section 204 of the Federal Land Policy and Management Act of 1976, 43 U.S.C. 1714 (2000), it is ordered as follows:

1. The withdrawal created by Executive Order dated April 4, 1917, as modified by Executive Order dated June 29, 1917 and Secretarial Order dated April 4, 1921, which reserved lands for the purposes of electrical transmission line development, designated Power Site Reserve No. 595, is hereby revoked in its entirety.

2. At 9 a.m. on February 20, 2009, the lands referenced in Paragraph 1, except those lands previously conveyed out of Federal ownership, will be opened to the operation of the public land laws generally, subject to valid existing rights, the provisions of existing withdrawals or other segregations of record, and the requirements of applicable law. All valid applications received at or prior to 9 a.m. on February 20, 2009, shall be considered as simultaneously filed at that time. Those received thereafter shall be considered in the order of filing.

Dated: January 7, 2009.
Lyle Laverty,
Assistant Secretary—Fish and Wildlife and Parks, Department of the Interior.

[FR Doc. E9-927 Filed 1-16-09; 8:45 am]

BILLING CODE 4310-GG-P